SECURITIES AND EXCHANGE COMMISSION

[Release No. 34-76673; File No. SR-NYSEArca-2015-104]

Self-Regulatory Organizations; NYSE Arca, Inc.; Notice of Designation of a Longer Period for Commission Action on Proposed Rule Change To Adopt a New Policy Relating to Trade Reports for Exchange Traded Products

December 17, 2015.

On October 28, 2015, NYSE Arca, Inc. (“Exchange”) filed with the Securities and Exchange Commission (“Commission”), pursuant to Section 19(b)(1) of the Securities Exchange Act of 1934 (“Act”) ¹ and Rule 19b-4 thereunder,² a rule change proposing a new policy related to the Exchange's treatment of trade reports for “Exchange Traded Products” ³ that it determines to be inconsistent with the prevailing market. The proposed rule change was published for comment in the Federal Register on November 18, 2015.⁴ The Commission has received two comment letters on the proposal.⁵

¹ 15 U.S.C. 78s(b)(1).

² 17 CFR 240.19b-4.

³ For purposes of this proposed rule change, “Exchange Traded Products” include exchange-traded funds, exchange-traded notes, and exchange-traded vehicles. See Securities Exchange Act Release No. 76431 (Nov. 12, 2015), 80 FR 72126, n.4 (Nov. 18, 2015) (SR-NYSEArca-2015-104) (“Notice”).

⁴ See Notice, supra note 3.

⁵ See Letter from Gary Gastineau, ETF Consultants.com, Inc., to the Commission (Nov. 27, 2015); Letter from James J. Angel, Associate Professor, Georgetown University, to the Commission (Dec. 5, 2015). All comments on the proposed rule change are available on the Commission's Web site at: http://www.sec.gov/comments/sr-nysearca-2015-104/nysearca2015104.shtml.

Section 19(b)(2) of the Act ⁶ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the notice for this proposed rule change is January 2, 2016. The Commission is extending this 45-day time period.

⁶ 15 U.S.C. 78s(b)(2).

The Commission finds it appropriate to designate a longer period within which to take action on the proposed rule change so that it has sufficient time to consider this proposed rule change and the comments received. Accordingly, the Commission, pursuant to Section 19(b)(2) of the Act,⁷ designates February 16, 2016, as the date by which the Commission shall either approve or disapprove, or institute proceedings to determine whether to disapprove, the proposed rule change (File No. SR-NYSEArca-2015-104)

⁷ Id.

For the Commission, by the Division of Trading and Markets, pursuant to delegated authority.⁸
⁸ 17 CFR 200.30-3(a)(31).
Robert W. Errett,
Deputy Secretary.

[FR Doc. 2015-32187 Filed 12-22-15; 8:45 am]

BILLING CODE 8011-01-P